DEPARTMENT OF STATE

[Public Notice 4757]

Meetings of the U.S.-Chile Environment Affairs Council and the U.S.-Chile Joint Commission for Environmental Cooperation

ACTION: Notice and request for comments.

SUMMARY: The Department of State and the Office of the United States Trade Representative are providing notice that, as set forth in Chapter 19 (Environment) of the U.S.-Chile Free Trade Agreement (FTA), the two governments intend to hold the first meeting of the Environment Affairs Council (the “Council”) in Santiago on July 22, 2004. Immediately following this meeting, the U.S.-Chile Joint Commission for Environmental Cooperation (the “Commission”), established under the U.S.-Chile Environmental Cooperation Agreement (ECA), will hold its inaugural meeting. The purpose of the two meetings is detailed below under Supplementary Information. A joint public session will also be held in conjunction with these meetings. In this notice, the Department of State and USTR are requesting: (1) Written comments from the public regarding agenda items for the Council meeting; (2) written comments regarding the eight cooperative projects listed in Annex 19.3 of Chapter 19 (Environment) of the FTA; and (3) written suggestions for bilateral environmental cooperation between the United States and the Republic of Chile in the priority areas outlined below under Supplementary Information. In preparing comments, the public is encouraged to refer to:

• The environment chapter of the U.S.-Chile Free Trade Agreement, available at: http://www.ustr.gov/new/fta/Chile/final/19.environment.PDF;

• The U.S.-Chile Environmental Cooperation Agreement, available at: http://www.state.gov/g/oes/rls/or/22185.htm; and

• The Final Environment Review of the U.S.-Chile Free Trade Agreement, available at: http://www.ustr.gov/environment/tpa/chile-environment.pdf.

DATES: To guarantee receipt in proper time for consideration prior to the meeting, comments are requested no later than July 20, 2004.

ADDRESSES: Comments may be sent by fax to (202) 647-5947 or 202-647-1052, by e-mail to OES-ENV-Mail@state.gov.

FOR FURTHER INFORMATION CONTACT: Luke Ney, Department of State, Bureau of Oceans and International Environmental and Scientific Affairs, Office of Environmental Policy, telephone 202-647-6867.

SUPPLEMENTARY INFORMATION: The U.S.-Chile Free Trade Agreement (FTA) entered into force on January 1, 2004. Article 3 of Chapter 19 (Environment) of the FTA establishes an Environment Affairs Council (the “Council”), which is required to meet once a year, or more often if agreed by the two governments, to discuss the implementation of, and progress under, Chapter 19. Chapter 19 requires that meetings of the Council include a public session, unless otherwise agreed by the two governments. Through this notice the Department announces that the first meeting of the Council will be held on July 22, 2004, in Santiago, Chile, to discuss issues of mutual concern related to Chapter 19 of the FTA, including matters related to the eight cooperation projects listed in Annex 19.3 of the FTA. In this meeting the Council will also consider how to implement the provisions of Chapter 19, including public participation. Written comments from the public regarding agenda items for the Council meeting, as well as written comments regarding the eight cooperative projects, may be submitted to the contact addresses listed above.

The Agreement Between the Government of the United States of America and the Government of the Republic of Chile on Environmental Cooperation (the “Environmental Cooperation Agreement,” or ECA) entered into force on May 1, 2004. The objective of the ECA is to establish a framework for cooperation between the two governments to support sustainable development by promoting the conservation and protection of the environment, the prevention of pollution and degradation of natural resources and ecosystems, and the rational use of natural resources. Article II of the ECA establishes a U.S.-Chile Joint Commission for Environmental Cooperation (the “Commission”), comprised of representatives from both governments. The Commission is responsible for establishing and developing programs of work resulting from the ECA, examining and evaluating the cooperative activities under the ECA, making recommendations to the two governments on ways to improve cooperation under the ECA, and undertaking other activities as the two governments agree. Through this notice, the Department announces the first meeting of the Commission, to take place immediately following the Council meeting, on July 22, 2004 in Santiago. The primary objective of the Commission meeting will be to prepare a formal work plan. Public comment is invited on possible areas for bilateral environmental cooperation under the work plan, including: (1) Capacity building and exchange of information on strategies and experiences regarding the control, supervision and the compliance of environmental laws, norms and regulations; (2) Capacity building and exchange of information regarding eco-tourism; (3) Participation of civil society in decision-making related to environmental matters; (4) Joint research and collaboration on preventing the introduction of alien invasive species, with special emphasis on highly-trafficked maritime ports and other pathways of introduction; (5) Impact mitigation of longline fishing on non-target species such as turtles and seabirds; and (6) Capacity building and exchange of information on forest management and protection.

A special introductory public session will take place in Santiago prior to the Council and Commission meetings, at a time and place to be announced, in order to explain the provisions in Chapter 19 of the FTA and the role of the Council, as well as discuss the cooperative projects identified in the annex of Chapter 19. This session will also provide the opportunity for the public to learn about, and provide input towards, the cooperative activities envisioned by the ECA. The public is advised to refer to the State Department Web site at www.state.gov/g/oes/env/ for further information related to this meeting.

Dated: July 7, 2004.
Michael Glover,
Director, Office of Environmental Policy, Department of State.

[FR Doc. 04-15754 Filed 7-9-04; 8:45 am]

BILLING CODE 4710-09-P